DEPARTMENT OF THE INTERIOR

Bureau of Land Management

[NM-060-03-1220-DA]

Fort Stanton Area of Critical Environmental Concern (ACEC) Designation of Roads and Trails

AGENCY: Bureau of Land Management, Department of the Interior.

ACTION: Notice of closure of roads and designation of trails.

SUMMARY: The Roswell Field Office of the Bureau of Land Management (BLM) is closing roads and developing multiuse trails to protect resource values within the Fort Stanton ACEC. The Route Designation Plan (transportation plan) includes road closures, designating off-highway vehicle (OHV) routes, designation of multiuse trails, and closing roads, the use of which is causing damage within the ACEC. The designation is in accordance with the 1997 Roswell Resource Management Plan (RMP) and the Fort Stanton ACEC Final Activity Plan of March 2001. In accordance to the RMP and the ACEC Plan, approximately 24,000 acres will be designated as limited to designated roads and trails for OHV use, to protect soils, cultural resources, and vegetation, including threatened or endangered species. Twenty miles of roads will be closed, and twenty miles will be designated as open to OHV's. Sixty miles of multiuse hike/bike/equestrian trails will be designated. The Route Designation Plan is necessary to reduce the impact from recreationists to biological, archaeological, and scenic qualities of the ACEC, while providing for quality recreation opportunities.

DATES: This notice is effective October 27, 2003.

ADDRESSES: Bureau of Land Management, Roswell Field Office, Attention Paul T. Happel, Natural Resource Specialist, 2909 West Second, Roswell, New Mexico 88201. Internet e-mail: paul_happel@blm.gov.

FOR FURTHER INFORMATION CONTACT: For further information and/or to have your name added to our mailing list, contact Paul T. Happel, Natural Resource Specialist, at the address listed above, telephone number (505) 627-0203, during normal business hours (7:45 a.m. to 4:30 p.m. Mountain Time).

SUPPLEMENTARY INFORMATION: Instructions for filing a protest with the Director of the BLM may be found at 43 CFR 4.400. Any party to the case who is adversely affected by a decision of an officer of the BLM or an administrative law judge shall have a right to appeal to the Interior Board of Land Appeals. A person who wishes to appeal to the Interior Board of Land Appeals must file in the office of the officer who made the decision (the Roswell Field Office) a notice that he wishes to appeal. The authority for the proposed activities is under 43 CFR part 8342, which provides for the designation of roads and trails to protect resources of the public lands. This section goes on to require public participation, designation, and identification of designated areas and trails. Public meetings have been completed. Public participants were also involved in the NEPA process and were given an opportunity to comment on the Environmental Assessment for the Route Designation Plan. The RMP constitutes the formal designation process for OHV's. This Notice will serve as a public notice for the official designation and identification of specific roads and trails in the Fort Stanton ACEC. Appropriate informational material will be provided and available to the public at the BLM office. The Fort Stanton ACEC is located approximately 5 miles southeast of the village of Capitan, New Mexico, and approximately 10 miles north east of the village of Ruidoso, New Mexico.

The Roswell RMP designated Fort Stanton as an ACEC in 1997. A collaborative final activity plan was developed for the ACEC in March 2001. The ACEC Plan took approximately 2 years to complete with extensive public scoping and public assessment. The Route Designation Plan/Environmental Assessment was developed over an 18-month period with a collaborative work group. All public meetings were held in the evening, approximately 4 miles from the ACEC in the town of Capitan, New Mexico. This notice will not affect valid existing rights to public land users. Under the 1997 Roswell Resource Management Plan (RMP), the area will remain open to saleable mineral disposal. All public lands in Fort Stanton will remain withdrawn from the general mining laws, closed to the disposal of leaseable minerals, and to the leasing of oil and gas. Major rights-of-way will be excluded on the entire area. The area is also excluded from the Taylor Grazing Act. Unrestricted hiking will be allowed through out the area. OHV's will be limited to designated roads and trails. The Route Designation Plan/Environmental Assessment designates the routes of vehicle travel and multiuse trails within the ACEC. Presently, there are 40 miles of existing roads within the ACEC. The Plan closes approximately 20 miles of existing roads within the ACEC. These 20 miles of roads are causing severe environmental damage, are placed in the wrong locations, are dangerous to users, and will be closed to general public use within the ACEC. Approximately 60 miles of multiuse hike/bike/equestrian trails are designated by the Route Designation Plan and will be developed separately from the existing road system within the ACEC. The trails will allow the users to gain access into the back country of the ACEC without being in direct competition with the motorized vehicles using the area. Roads and trails will be signed with standard OHV signage. Information kiosks will be placed at all roads that enter the ACEC. Attached to the kiosk will be a road/trail transportation system map, OHV rules and regulations, and interpretive road and trail brochures. The principal author of these closures, trail, and road designations is Paul T. Happel of the Roswell Field Office, Bureau of Land Management, Department of the Interior.

Dated: September 12, 2003.
Linda S.C. Rundell,
State Director.

[FR Doc. 03-26994 Filed 10-24-03; 8:45 am]

BILLING CODE 4310-FB-P